NATIONAL SCIENCE FOUNDATION

Agency Information Collection Activities: Comment Request: Survey of Earned Doctorates

AGENCY: National Center for Science and Engineering Statistics, National Science Foundation.

ACTION: Notice.

SUMMARY: The National Science Foundation (NSF) is announcing plans to renew this collection In accordance with the requirements of the Paperwork Reduction Act of 1995, we are providing opportunity for public comment on this action. After obtaining and considering public comments, NSF will prepare the submission requesting OMB clearance of this collection for three years.

DATES: Written comments on this notice must be received by January 21, 2025 to be assured consideration. Comments received after that date will be considered to the extent practicable. Send comments to the address below.

FOR FURTHER INFORMATION CONTACT: Suzanne H. Plimpton, Reports Clearance Officer, National Science Foundation, 2415 Eisenhower Avenue, Suite E6400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Survey of Earned Doctorates.

OMB Control Number: 3145-0019.

Expiration Date of Current Approval: May 31, 2026.

Type of Request: Intent to seek approval to extend an information collection for three years.

Abstract: Established within the NSF by the America COMPETES Reauthorization Act of 2010 section 505, codified in the NSF Act of 1950, as amended, the National Center for Science and Engineering Statistics (NCSES) serves as a central Federal clearinghouse for the collection, interpretation, analysis, and dissemination of objective data on science, engineering, technology, and research and development for use by practitioners, researchers, policymakers, and the public.

The Survey of Earned Doctorates (SED) is part of NCSES' survey system that collects data on individuals to provide information on science and engineering education and careers in the United States. The SED has been conducted annually since 1958 and is jointly sponsored by four Federal agencies (NSF/NCSES, National Institutes of Health, U.S. Department of Education/National Center for Education Statistics, and National Endowment for the Humanities) to avoid duplication of effort in collecting such data. It is an accurate, timely source of information on one of our Nation's most important resources—highly educated individuals. This request to extend the information collection for three years is to cover the 2026 and 2027 SED survey cycles.

Data are obtained via Web survey from each person earning a research doctorate at the time they receive the degree. Data are collected on their field of specialty, educational background, sources of support in graduate school, debt level, postgraduation plans, and demographic characteristics. NCSES publishes statistics from the survey in several reports. The survey will be collected in conformance with the Privacy Act of 1974. Responses from individuals are voluntary. NCSES will ensure that all individually identifiable information collected will be kept strictly confidential and will be used only for research or statistical purposes.

Use of the Information: The Federal Government, universities, researchers, policy makers, and others use the information extensively. Results from the SED are used to assess characteristics of the doctorate population and trends in doctoral education and degrees. Data from the survey are published annually on the NCSES website in a publication series reporting on all fields of study, titled Doctorate Recipients from U.S. Universities (https://www.nsf.gov/statistics/doctorates). Information from the SED is also included in other series available online: Science and Engineering Indicators (https://ncses.nsf.gov/indicators); and Women, Minorities, and Persons with Disabilities in Science and Engineering (https://www.nsf.gov/statistics/women). In addition, access to tabular data from selected variables is available through the NCSES online data tool (https://ncsesdata.nsf.gov/builder/sed) and the SED Restricted Data System (https://ncsesdata.nsf.gov/rdas).

Expected Respondents: The SED is a census of all individuals receiving a research doctorate from an accredited U.S. academic institution in the academic year beginning 1 July and ending 30 June of the subsequent year. As such, the population for the 2026 SED consists of all individuals receiving a research doctorate in the 12-month period beginning 1 July 2025 and ending 30 June 2026. Likewise, the population for the 2027 SED consists of all individuals receiving a research doctorate in the 12-month period beginning 1 July 2026 and ending 30 June 2027. A research doctorate is a doctoral degree that (1) requires completion of an original intellectual contribution in the form of a dissertation or an equivalent culminating project (e.g., musical composition) and (2) is not primarily intended as a degree for the practice of a profession. The most common research doctorate degree is the Ph.D. Recipients of professional doctoral degrees, such as MD, DDS, JD, DPharm, and PsyD, are not included in the SED. The 2026 and 2027 SED are expected to include about 630 separately reporting schools with eligible research doctoral programs from about 460 doctorate-granting institutions. Based on the historical trend and the disruptive impacts of the COVID 19 pandemic that suppressed the enrollment of research doctoral programs since 2020, NCSES expects a stable turnout of research doctorates for the next few years with a nominal increase from the 2025 cycle, estimating that approximately 58,000 individuals will receive a research doctorate from U.S. institutions in each of the 2026 and 2027 cycle.

In addition to the questionnaire for individuals receiving their research doctorates, the SED needs to collect administrative data such as graduation lists from participating academic institutions. The Institutional Coordinator at the institution helps distribute the Web survey link, track survey completions, and submit information to the SED survey contractor.

Estimate of Burden: An average overall response rate of 91.5% of the persons who earned a research doctorate from a U.S. institution was obtained in the academic years 2021, 2022, and 2023. Using the past response rate, the number of SED respondents is estimated to be 53,070 (58,000 doctorate recipients × 0.915 response rate) in each of the 2026 and 2027 cycles.

Based on the average Web survey completion time for the 2023 SED (19.5 minutes), NCSES estimates that, on average, 20 minutes per respondent will be required to complete the 2026 or 2027 SED Web survey. The annual respondent burden for completing the SED is therefore estimated at 17,690 hours each in 2026 and 2027 (based on 53,070 respondents × 20 minutes).

Based on focus groups conducted with Institutional Coordinators, it is estimated that the SED takes no more than 1% of the Institutional Coordinator's time over the course of a year, which computes to 20 hours per year per Institutional Coordinator (40 hours per week × 50 weeks per year × .01). With about 650 schools expected to participate in the SED in 2026 and 2027, the estimated annual burden to Institutional Coordinators of administering the SED is 13,000 hours per survey cycle.

Therefore, the total information burden for the SED is estimated to be 30,690 (17,690 + 13,000) hours each in the 2026 and 2027 survey cycle. NCSES estimates that the average annual burden for the 2026 and 2027 survey cycles over the course of the three-year OMB clearance period will be no more than 20,460 hours [(30,690 hours + 30,690 hours)/3 years].

Comments: Comments are invited on (a) whether the proposed collection of information is necessary for the proper performance of the functions of the NSF, including whether the information shall have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: November 18, 2024.
Suzanne H. Plimpton,
Reports Clearance Officer, National Science Foundation.

[FR Doc. 2024-27334 Filed 11-20-24; 8:45 am]

BILLING CODE 7555-01-P